DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the name of one person that has been removed from the List of Specially Designated Nationals and Blocked Persons (SDN List).

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On July 14, 2022, OFAC determined that circumstances no longer warrant the inclusion of the following person on the SDN List and that their property and interests in property are no longer blocked under Executive Order 14024 of April 15, 2021, “Blocking Property With Respect To Specified Harmful Foreign Activities of the Government of the Russian Federation,” 86 FR 20249 (April 15, 2021).

Entity

1. SUBSIDIARY BANK ALFA-BANK JSC (a.k.a. JSC SB ALFA BANK), Masanchy Street 57a, Almaty 050012, Kazakhstan; SWIFT/BIC ALFAKZKA; website www.alfabank.kz; Organization Established Date 1994 [RUSSIA-EO14024] (Linked To: JOINT STOCK COMPANY ALFA-BANK)

Dated: July 22, 2022.
Bradley T. Smith,
Deputy Director, Office of Foreign Assets Control, U.S. Department of the Treasury.

[FR Doc. 2022-16156 Filed 7-27-22; 8:45 am]

BILLING CODE 4810-AL-P